DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by May 9, 2008.

ADDRESSES: Written data or comments should be submitted to the Assistant Regional Director, Fisheries—Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to Section 10(a)(1)(A) of the Endangered Species Act of 1973, as amended (16 U.S.C. 1531 et seq.).

Applicants: Bureau of Land Management, Kanab Field Office, Kanab, Utah, TE-057401; and Colorado Division of Wildlife, Region 5, Durango, Colorado, TE-067482.

The applicants request a renewed permit to take Southwestern willow flycatcher (Empidonax traillii extimus) in conjunction with recovery activities throughout the species' range for the purpose of enhancing their survival and recovery.

Applicants: Virginia Polytechnic Institute, Fisheries and Wildlife, Blacksburg, Virginia, TE-103272; and, Tern and Plover Conservation Partnership, University of Nebraska, Lincoln, Nebraska, TE-070027.

The applicants request a renewed permit to take Interior least terns (Sternula antillarum) and piping plovers (Charadrius melodus) in conjunction with recovery activities throughout the species' range for the purpose of enhancing their survival and recovery.

Applicants: Wyoming Game and Fish Department, Cheyenne, Wyoming, TE-067397; National Park Service, Badlands National Park, Interior, South Dakota, TE-067734; Cheyenne River Sioux Tribe, Prairie Management Program, Eagle Butte, South Dakota, TE-069539; and, U.S. Forest Service, Buffalo Gap National Grasslands, Wall, South Dakota, TE-069553.

The applicants request a renewed permit to take black-footed ferrets (Mustela nigripes) in conjunction with recovery activities throughout the species' range for the purpose of enhancing their survival and recovery.

Applicant: Montana State University, Western Transportation Institute, Bozeman, Montana, TE-150365.

The applicant requests a renewed permit to take Topeka shiners (Notropis topeka) in conjunction with recovery activities throughout the species' range for the purpose of enhancing their survival and recovery.

Applicant: National Park Service, Capitol Reef National Park, Torrey, Utah, TE-064680.

The applicant requests a renewed permit to take Barneby reed-mustard (Schoenocrambe barnebyi) in conjunction with recovery activities throughout the species' range for the purpose of enhancing their survival and recovery.

Applicant: University of Nebraska, Department of Entomology, Lincoln, Nebraska, TE-121912.

The applicant requests a renewed permit to take Salt Creek tiger beetle (Cicindela nevadica lincolniana) in conjunction with recovery activities throughout the species' range for the purpose of enhancing their survival and recovery.

Dated: March 4, 2008.
James J. Slack,
Deputy Regional Director, Denver, Colorado.

[FR Doc. E8-7435 Filed 4-8-08; 8:45 am]

BILLING CODE 4310-55-P